DEPARTMENT OF TRANSPORTATION

Federal Highway Administration

Highway Safety Improvement Program “Five Percent Reports” Posted on DOT/FHWA Web Site

AGENCY: Federal Highway Administration (FHWA).

ACTION: Notice.

SUMMARY: In accordance with 23 U.S.C. 148, as amended by section 1401 of the Safe, Accountable, Flexible, Efficient Transportation Equity Act: A Legacy for Users (SAFETEA-LU), States are required to submit reports describing at least 5 percent of their public road locations exhibiting the most severe safety needs. In addition, these reports shall be made available to the public through the Department of Transportation's Web site. The FHWA is issuing this notice to advise the public that the reports submitted by the States are now available on the FHWA Web site, http://safety.fhwa.dot.gov/fivepercent/index.htm.

DATES: These reports were posted on the Web site on December 15, 2006.

ADDRESSES: The reports are posted on the FHWA Web site at: http://safety.fhwa.dot.gov/fivepercent/index.htm.

FOR FURTHER INFORMATION CONTACT: George E. Rice, Jr., Office of Safety Design, (202) 366-9064, Kenneth Epstein, Office of Safety Programs, (202) 366-2157, or Raymond Cuprill, Office of the Chief Counsel, (202) 366-0971, Federal Highway Administration, 400 Seventh Street, SW., Washington, DC 20590. Office hours are from 7:45 a.m. to 4:15 p.m., Monday through Friday, except Federal holidays.

SUPPLEMENTARY INFORMATION: The Safe, Accountable, Flexible, Efficient Transportation Equity Act: A Legacy for Users (SAFETEA-LU) (Pub. L. 109-59; Aug. 10, 2005) amended section 148 of title 23, United States Code, to establish a new “core” Highway Safety Improvement Program (HSIP) that provides funds to State Departments of Transportation to improve conditions at hazardous highway locations and hazardous railway-highway grade crossings on all public roads.

Section 148, as amended, requires the States to submit reports describing at least 5 percent of a State's highway locations exhibiting the most severe safety needs, including an estimate of the potential remedies, their costs, and impediments to their implementation other than cost for each of the locations listed [23 U.S.C. 148(c)(1)(D)]. These reports are intended to help raise public awareness of the highway safety needs and challenges in the States. Section 148 also requires that these “5 Percent Reports” be posted on the Department of Transportation's Web site [23 U.S.C. 148(g)(3)(A)].

Please note that the reports provided by the States represent a variety of methods utilized and various degrees of road coverage. Therefore, the reports should not be compared to one another.

The reports that have been posted on the Web site are protected from discovery and admission into evidence. In accordance with 23 U.S.C. 148(g)(4), information collected or compiled for any purpose directly relating to these reports shall not be subject to discovery or admitted into evidence in a Federal or State court proceeding or considered for other purposes in any action for damages arising from any occurrence at a location identified or addressed in the reports.

The FHWA provided guidance for the States to use in the preparation of these reports. Additional information about the program, including the guidance provided by the FHWA to the States, may be found at: http://safety.fhwa.dot.gov/safetealu/fiveguidance.htm.

Authority: 23 U.S.C. 148(c)(1)(D), 23 U.S.C. 148(g)(3)(A), and Section 1401 of Pub Law 109-59.

Issued on: January 26, 2007.
J. Richard Capka,
Federal Highway Administrator.

[FR Doc. E7-1844 Filed 2-5-07; 8:45 am]

BILLING CODE 4910-22-P